DEPARTMENT OF HOMELAND SECURITY

Federal Emergency Management Agency

[Docket ID FEMA-2011-0024; OMB No. 1660-0087]

Agency Information Collection Activities: Submission for OMB Review; Comment Request, PrepCAST.

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before March 15, 2012.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: PrepCAST.

Type of information collection: Revision of a currently approved information collection.

OMB Number: 1660-0087.

Form Titles and Numbers: None.

Abstract: PrepCAST is a collection instrument that will collect preparedness information at the State, Local and Tribal jurisdiction level. It also collects National Incident Management System (NIMS) compliance information. It is used to eliminate the redundant data calls on National preparedness to reduce the burden on respondents. This system will provide insight into the overall preparedness level of the Nation.

Affected Public: State, Local or Tribal Government.

Estimated Number of Respondents: 56.

Frequency of Response: Annually.

Estimated Average Hour Burden per Respondent: 5 hours.

Estimated Total Annual Burden Hours: 19,630.

Estimated Cost: There is an annual reporting and recordkeeping cost associated with this collection.

John G. Jenkins, Jr.,
Director, Records Management Division, Mission Support Bureau, Federal Emergency Management Agency, Department of Homeland Security.

[FR Doc. 2012-3444 Filed 2-13-12; 8:45 am]

BILLING CODE 9111-46-P